DEPARTMENT OF HOMELAND SECURITY

Coast Guard

[CGD08-05-008]

Lower Mississippi River Waterways Safety Advisory Committee

AGENCY: Coast Guard, DHS.

ACTION: Request for applications.

SUMMARY: The U.S. Coast Guard is seeking applications for appointment to membership on the Lower Mississippi River Waterways Safety Advisory Committee (LMRWSAC). LMRWSAC provides advice and makes recommendations to the Coast Guard on matters relating to the safe navigation of vessels to and from ports on the Lower Mississippi River.

DATES: Applications must be completed and postmarked no later than April 30, 2005.

ADDRESSES: You may request an application form by writing to Commanding Officer, USCG Marine Safety Office New Orleans, Attention: Waterways, 1615 Poydras Street, New Orleans, LA 70112; All application forms must be returned to the following address: Commanding Officer

Attn: LMRWSAC Executive Secretary, USCG Marine Safety Office New Orleans, 1615 Poydras Street, New Orleans, LA 70112.

FOR FURTHER INFORMATION CONTACT: LCDR Michael McKean, Executive Secretary of LMRWSAC at (504-628-1555) or LTJG Melissa Owens, Assistant to the Executive Secretary of LMRWSAC at (504-589-4251).

SUPPLEMENTARY INFORMATION: LMRWSAC is a Federal advisory committee subject to the provisions of 5 U.S.C. App. 2. This committee provides local expertise to the Secretary of Homeland Security and the Coast Guard on such matters as communications, surveillance, traffic control, anchorages, aids to navigation, and other related topics dealing with navigation safety in the Lower Mississippi River area. The committee normally meets at least two times a year in the New Orleans area. Members serve voluntarily, without compensation from the Federal Government for salary, travel, or per diem. Term of membership is for two years. Individuals appointed by the Secretary based on applications submitted in response to this solicitation will serve from December 2005 until December 2007. Per LMRWSAC's Charter, the Committee consists of 24 members who have particular expertise, knowledge, and experience regarding the transportation, equipment, and techniques that are used to ship cargo and to navigate vessels on the Lower Mississippi River and its connecting navigable waterways, including the Gulf of Mexico. We seek applications for all 24 membership positions. These members are appointed as follows: (1) Five members representing River Port Authorities between Baton Rouge, Louisiana, and the Head of Passes of the Lower Mississippi River, of which one member shall be from the Port of St. Bernard and one member from the Port of Plaquemines; (2) two members representing vessel owners or ship owners domiciled in the State of Louisiana; (3) two members representing organizations that operate harbor tugs or barge fleets in the geographical area covered by the Committee; (4) two members representing companies that transport cargo or passengers on the navigable waterways in the geographical area covered by the Committee; (5) three members representing State Commissioned Pilot organizations, with one member each representing the New Orleans/Baton Rouge Steamship Pilots Association, the Crescent River Port Pilots Association, and the Associated Branch Pilots Association; (6) two at-large members who utilize water transportation facilities located in the geographical area covered by the Committee; (7) three members representing consumers, shippers, or importers/exporters that utilize vessels that utilize the navigable waterways covered by the Committee; (8) two members representing those licensed merchant mariners, other than pilots, who perform shipboard duties on vessels that utilize the navigable waterways covered by the Committee; (9) one member representing an organization that serves in a consulting or advisory capacity to the maritime industry; (10) one member representing an environmental organization; and (11) one member representing the general public. In support of the policy of the Department of Homeland Security on gender and ethnic diversity, the Coast Guard encourages applications from qualified women and members of minority groups. Individuals nominated to represent the general public will be required to complete a Confidential Financial Disclosure Report (OGE Form 450). Neither the report nor the information it contains may be released to the public, except under an order issued by a Federal court or as otherwise provided under the Privacy Act (5 U.S.C. 552a).

Dated: January 24, 2005.
R.F. Duncan,
Rear Admiral, U.S. Coast Guard, Commander, Eighth Coast Guard District.

[FR Doc. 05-2872 Filed 2-14-05; 8:45 am]

BILLING CODE 4910-15-P